DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on Thursday, April 23, 2009 at the Sunnyslope Fire Station, 206 Easy Street, Wenatchee, WA and on May 27 at the Okanogan-Wenatchee National Forest Headquarters office, 215 Melody Lane, Wenatchee, WA. Both meetings will begin at 9 a.m. and continue until 3 p.m. During the April 23, 2009 meeting, Provincial Advisory Committee members will receive information about Lynx habitat studies, livestock grazing permit system, motorized law enforcement program, and volunteer work on the forest. During the May 27, 2009 meeting information will be shared about the Forest's Travel Management plan and process. All Eastern Washington Cascades and Yakima Province Advisory Committee meetings are open to the public.

FOR FURTHER INFORMATION CONTACT: Direct questions regarding this meeting to Becki Heath, Designated Federal Official, USDA, Okanogan-Wenatchee National Forest, 215 Melody Lane, Wenatchee, Washington 98801, 509-664-9200.

Dated: March 27, 2009.
Rebecca Lockett Heath,
Designated Federal Official, Okanogan-Wenatchee National Forest.

[FR Doc. E9-7484 Filed 4-2-09; 8:45 am]

BILLING CODE 3410-11-P